DEPARTMENT OF COMMERCE

International Trade Administration

The University of Chicago; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW., Washington, DC.

Docket Number: 00-040. Applicant: The University of Chicago, Operator of Argonne National Laboratory, Argonne, IL 60439. Instrument: UHV Scanning Tunneling Microscope/Atomic Force Microscope. Manufacturer: Omicron Vakuumphysik GmbH, Germany. Intended Use: See notice at 66 FR 7626, January 24, 2001.

Comments: None received. Decision: Approved. No instrument of equivalent scientific value to the foreign instrument, for such purposes as it is intended to be used, is being manufactured in the United States. Reasons: The foreign instrument provides: (1) Integral vibration isolation with spring suspension and 360° magnetic eddy current damping on the head, (2) continuous imaging in a range of 25-1500° K, (3) scan range of 12 × 12 × 1.2 μm³ and (4) needle sensor AFM with electrical sensing. A university research laboratory and the National Institute of Standards and Technology advised February 4, 2001 that (1) these capabilities are pertinent to the applicant's intended purpose and (2) they know of no domestic instrument or apparatus of equivalent scientific value to the foreign instrument for the applicant's intended use (comparable case).

We know of no other instrument or apparatus of equivalent scientific value to the foreign instrument which is being manufactured in the United States.

Gerald A. Zerdy,
Program Manager, Statutory Import Programs Staff.

[FR Doc. 01-6118 Filed 3-12-01; 8:45 am]

BILLING CODE 3510-DS-P